ENVIRONMENTAL PROTECTION AGENCY

40 CFR Part 302

[EPA-HQ-OLEM-202-0922; FRL-9064-02-OLEM]

Addressing PFAS in the Environment; Extension of Comment Period

AGENCY: Environmental Protection Agency (EPA).

ACTION: Advance notice of proposed rulemaking (ANPRM); extension of comment period.

SUMMARY: The Environmental Protection Agency (EPA) is extending the comment period for the ANPRM, “Addressing PFAS in the Environment.” The EPA published the ANPRM in the Federal Register on April 13, 2023, and the public comment period was scheduled to end on June 12, 2023. However, the EPA has received several requests for additional time to develop and submit comments on the ANPRM. In response to the request for additional time, the EPA is extending the comment period for an additional 60 days, through August 11, 2023.

DATES: The comment period for the proposed rule published April 13, 2023, at 88 FR 22399, is extended. Comments must be received on or before August 11, 2023.

ADDRESSES: You may send comments, identified by Docket ID No., Docket ID No. EPA-HQ-OLEM-2022-0922, by any of the following methods:

• Federal eRulemaking Portal: https://www.regulations.gov (our preferred method). Follow the online instructions for submitting comments.

• Mail: U.S. Environmental Protection Agency, EPA Docket Center, OLEM Docket, Mail Code 28221T, 1200 Pennsylvania Avenue NW, Washington, DC 20460.

• Hand Delivery or Courier (by scheduled appointment only): EPA Docket Center, WJC West Building, Room 3334, 1301 Constitution Avenue NW, Washington, DC 20004. The Docket Center's hours of operations are 8:30 a.m.-4:30 p.m., Monday-Friday (except Federal Holidays).

Instructions: All submissions received must include the Docket ID No. for this rulemaking. Comments received may be posted without change to https://www.regulations.gov/, including any personal information provided. For detailed instructions on sending comments and additional information on the rulemaking process, see the “Public Participation” heading of the SUPPLEMENTARY INFORMATION section of this document. For further information on EPA Docket Center services and the current status, please visit us online at https://www.epa.gov/dockets.

FOR FURTHER INFORMATION CONTACT: Linda Strauss, Office of Superfund Remediation and Technology Innovation (5201T), Environmental Protection Agency, 1200 Pennsylvania Avenue NW, Washington, DC 20460; telephone number 202-564-0797; email address: strauss.linda@epa.gov.

SUPPLEMENTARY INFORMATION:

I. Summary

On April 13, 2023, the EPA published in the Federal Register an ANPRM seeking public input and data to assist in the consideration of potential development of future regulations pertaining to per- and polyfluoroalkyl substances (PFAS) under the Comprehensive Environmental Response, Compensation, and Liability Act (CERCLA or Superfund). The agency is seeking input and data regarding potential future CERCLA hazardous substance designation for seven PFAS, besides perfluorooctanoic acid (PFOA) and perfluorooctanesulfonic acid (PFOS), and their salts and structural isomers, or some subset thereof; precursors (a precursor is a chemical that is transformed into another compound through the course of a degradation process) to PFOA, PFOS, and seven other PFAS; and/or categories of PFAS.

The ANPRM's comment period was scheduled to end on June 12, 2023. Since publication, EPA has received several requests to extend that comment period to allow for additional time to develop comments on the ANPRM. After considering the requests for additional time, EPA has decided to extend the comment period for an additional 60 days, through August 11, 2023.

II. Public Participation

Submit your comments, identified by Docket ID No. EPA-HQ-OLEM-2022-0922, at https://www.regulations.gov (our preferred method), or the other methods identified in the ADDRESSES section. Once submitted, comments cannot be edited or removed from the docket. The EPA may publish any comment received to its public docket. Do not submit to the EPA's docket at https://www.regulations.gov any information you consider to be Confidential Business Information or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Larry Douchand,
Director, Office of Superfund Remediation & Technology Innovation.

[FR Doc. 2023-12410 Filed 6-8-23; 8:45 am]

BILLING CODE 6560-50-P